DEPARTMENT OF TRANSPORTATION

Federal Aviation Administration

14 CFR Part 39

[Docket No. FAA-2026-2283; Project Identifier MCAI-2026-00077-R]

RIN 2120-AA64

Airworthiness Directives; Airbus Helicopters

AGENCY: Federal Aviation Administration (FAA), DOT.

ACTION: Notice of proposed rulemaking (NPRM).

SUMMARY: The FAA proposes to adopt a new airworthiness directive (AD) for all Airbus Helicopters Model H160-B helicopters modified by Supplemental Type Certificate (STC) SR00223IB. This proposed AD was prompted by reports of various deficiencies on the parts installed on the jettisonable window system. This proposed AD would require removing the jettisonable window and, depending on the removal results, replacing the locking fingers; inspecting and replacing any missing retaining rings; and inspecting the left-hand (LH) side and right-hand (RH) side emergency handle latch covers (covers) and, depending on the inspection results, replacing the covers or reinstalling airworthy covers. This proposed AD would also require performing repetitive lubrication of the locking fingers installed on the windows jettisonable system and repetitive operational tests of the windows jettisonable system after each lubrication. Additionally, this proposed AD would require modifying the helicopter by replacing each cover and would prohibit the installation of certain window aesthetic covers or electrochromic windows unless certain requirements are met. The FAA is proposing this AD to address the unsafe condition on these products.

DATES: The FAA must receive comments on this NPRM by April 13, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2026-2283; or in person at Docket Operations between 9 a.m. and 5 p.m., Monday through Friday, except Federal holidays. The AD docket contains this NPRM, the mandatory continuing airworthiness information (MCAI), any comments received, and other information. The street address for Docket Operations is listed above.

Material Incorporated by Reference:

• For European Union Aviation Safety Agency (EASA) material identified in this proposed AD, contact EASA, Konrad-Adenauer-Ufer 3, 50668 Cologne, Germany; phone: +49 221 8999 000; email: ADs@easa.europa.eu; website: easa.europa.eu. You may find the EASA material on the EASA website at ad.easa.europa.eu. For Mecaer Aviation Group (MAG) material identified in this proposed AD, contact MAG, Via dell'Artigianato 1, Monteprandone 63076 Ascoli Piceno, Italy; phone: +39 0735-7091; email: caw@mecaer.com; or at mecaer.com.

• You may view this material at the FAA, Office of the Regional Counsel, Southwest Region, 10101 Hillwood Parkway, Room 6N-321, Fort Worth, TX 76177. For information on the availability of this material at the FAA, call (817) 222-5110.

FOR FURTHER INFORMATION CONTACT: Brenda Buitrago Perez, Aviation Safety Engineer, FAA, 1600 Stewart Avenue, Suite 410, Westbury, NY 11590; phone: (516) 228-7368; email: brenda.l.buitrago.perez@faa.gov.

SUPPLEMENTARY INFORMATION:

Comments Invited

The FAA invites you to send any written relevant data, views, or arguments about this proposal. Send your comments using a method listed under ADDRESSES. Include “Docket No. FAA-2026-2283; Project Identifier MCAI-2026-00077-R” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Brenda Buitrago Perez, Aviation Safety Engineer, FAA, 1600 Stewart Avenue, Suite 410, Westbury, NY 11590. Any commentary that the FAA receives which is not specifically designated as CBI will be placed in the public docket for this rulemaking.

Background

EASA, which is the Technical Agent for the Member States of the European Union, has issued EASA AD 2025-0269, dated December 1, 2025 (EASA AD 2025-0269) (also referred to as the MCAI), to correct an unsafe condition on Airbus Helicopters Model H160-B helicopters if modified by EASA STC 10080809 up to Revision 2 (inclusive). The MCAI states there have been reports of various deficiencies involving parts installed on the jettisonable window system, which include difficulty moving the locking fingers from the locking position that could cause the jettison function to fail; missing retaining rings on the jettison window hinge pins; and intermediate covers found partially detached. The FAA is proposing this AD to prevent failure of the jettisoning function of the window. The unsafe condition, if not addressed, could result in the inability to evacuate helicopter occupants during an emergency situation.

You may examine the MCAI in the AD docket at regulations.gov under Docket No. FAA-2026-2283.

Material Incorporated by Reference Under 1 CFR Part 51

The FAA reviewed EASA AD 2025-0269, which for helicopters that have aesthetic cover installation part number (P/N) 6A6H5600A002001XYZ and electrochromic window installation P/N 6A6H5600A001001XYZ installed, specifies procedures for removing the jettisonable windows and, if applicable, replacing the locking fingers, and inspecting and replacing any missing retaining rings. EASA AD 2025-0269 also specifies procedures for inspecting the LH side and RH side covers and, depending on the inspection results, replacing any covers that have discrepancies with certain part-numbered covers. EASA AD 2025-0269 specifies procedures for, repetitively lubricating the locking fingers and performing an operational test after each lubrication for helicopters that have aesthetic cover installation P/N 6A6H5600A002001XYZ and electrochromic window installation P/N 6A6H5600A001001XYZ installed.

Additionally, EASA AD 2025-0269 specifies procedures for modifying the helicopter by replacing the LH side and RH side covers and prohibits the installation of certain part-numbered aesthetic covers or certain part-numbered electrochromic windows on any helicopter unless certain requirements are met.

The FAA also reviewed MAG Mandatory Service Bulletin No. SB-A6H-015, dated November 19, 2025 (SB-A6H-015), which specifies procedures for inspection, replacement, and lubrication of the locking fingers; inspection for missing retaining rings and installation instructions for any missing retaining rings; inspection and replacement of certain part-numbered covers; and an operational test for the jettisonable windows system.

This material is reasonably available because the interested parties have access to it through their normal course of business or by the means identified in the ADDRESSES section.

FAA's Determination

These products have been approved by the civil aviation authority (CAA) of another country and are approved for operation in the United States. Pursuant to the FAA's bilateral agreement with this State of Design Authority, that authority has notified the FAA of the unsafe condition described in the MCAI and material referenced above. The FAA is issuing this NPRM after determining that the unsafe condition described previously is likely to exist or develop on other products of the same type design.

Proposed AD Requirements in This NPRM

This proposed AD would require accomplishing the actions specified in EASA AD 2025-0269, and the material described previously, as incorporated by reference, except for any differences identified as exceptions in the regulatory text of this AD. See “Differences Between this Proposed AD and the MCAI” for a discussion of the general differences included in this AD.

Differences Between This Proposed AD and the MCAI

The MCAI applies to Airbus Helicopters Model H160-B helicopters modified with EASA STC 10080809, whereas this proposed AD would apply to Airbus Helicopters Model H160-B helicopters modified with FAA STC SR002223IB, dated October 3, 2024.

Where the MCAI specifies contacting MAG for corrective instructions, this proposed AD requires using a method approved by the FAA, or EASA, or Airbus Helicopters' EASA Design Organizational Approval.

Explanation of Required Compliance Information

In the FAA's ongoing efforts to improve the efficiency of the AD process, the FAA developed a process to use some CAA ADs as the primary source of information for compliance with requirements for corresponding FAA ADs. The FAA has been coordinating this process with manufacturers and CAAs. As a result, the FAA proposes to incorporate EASA AD 2025-0269 by reference in this proposed AD. This proposed AD would require compliance with EASA AD 2025-0269 in its entirety through that incorporation, except for any differences identified as exceptions in the regulatory text of this proposed AD. Using common terms that are the same as the heading of a particular section in EASA AD 2025-0269 does not mean that operators need comply only with that section. For example, where the AD requirement refers to “all required actions and compliance times,” compliance with this proposed AD requirement is not limited to the section titled “Required Action(s) and Compliance Time(s)” in EASA AD 2025-0269. Material required by EASA AD 2025-0269 for compliance will be available at regulations.gov under Docket No. FAA-2026-2283 after the FAA final rule is published.

Costs of Compliance

The FAA estimates that this AD, if adopted as proposed, would affect eight helicopters of U.S. registry.

The FAA estimates the following costs to comply with this proposed AD:

Estimated Costs
Action | Labor cost | Parts cost | Cost per product | Cost on U.S. operators
Remove jettisonable window systems (6 per helicopter) | 4 work-hours × $85 per hour = $340 (per window) | $0 | $340 (per window) | $2,720
Inspect retaining rings | 1 work-hour × $85 per hour = $85 | $0 | $85 | 680
Inspect LH and RH covers | 4 work-hours × $85 per hour = $340 | $0 | $340 (per cover) | 2,720
Lubricate locking fingers | 2 work-hours × $85 per hour = $170 | $0 | $170 | 1,360
Perform operational test | 2 work-hours × $85 per hour = $170 | $0 | $170 | 1,360
Modify LH and RH covers | 2 work-hours × $85 per hour = $170 | $290 (per cover) | $460 (per cover) | 3,680

Estimated Costs for On-Condition Costs
Action | Labor cost | Parts cost | Cost per product
Replace locking fingers | Up to 12 work-hours × $85 per hour = $1,020 | $3,520 (per kit) | $4,540 (per kit).
Replace missing retaining rings | 1 work-hour × $85 per hour = $85 | Up to $50 (per ring) | Up to $135 (per ring).

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Airbus Helicopters: Docket No. FAA-2026-2283; Project Identifier MCAI-2026-00077-R.

(a) Comments Due Date

The FAA must receive comments on this airworthiness directive (AD) by April 13, 2026.

(b) Affected ADs

None.

(c) Applicability

This AD applies to all Airbus Helicopters Model H160-B helicopters, certificated in any category, modified by Supplemental Type Certificate (STC) SR00223IB.

(d) Subject

Joint Aircraft System Component (JASC) Code 5630, Door windows.

(e) Unsafe Condition

This AD was prompted by reports of various deficiencies on the parts installed on the jettisonable window system. The FAA is issuing this AD to prevent failure of the jettisoning function of the window. The unsafe condition, if not addressed, could result in the inability to evacuate helicopter occupants during an emergency situation.

(f) Compliance

Comply with this AD within the compliance times specified, unless already done.

(g) Required Actions

Except as specified in paragraphs (h) and (i) of this AD: Comply with all required actions and compliance times specified in, and in accordance with, European Union Aviation Safety Agency AD 2025-0269, dated December 1, 2025 (EASA AD 2025-0269).

(h) Exceptions to EASA AD 2025-0269

(1) Where EASA AD 2025-0269 refers to its effective date, this AD requires using the effective date of this AD.

(2) Where EASA AD 2025-0269 requires compliance in terms of flight hours, this AD requires using hours time-in-service.

(3) Where paragraph (5) of EASA AD 2025-0269 specifies “perform one operational test of the window jettisonable systems in accordance with the instructions of Part IV of the MSB”, this AD requires replacing that text with “perform one operational test (also referred as a functional test) of the window jettisonable systems in accordance with the instructions of Part IV of the MSB”.

(4) Where paragraph (6) of EASA AD 2025-0269 and Mecaer Aviation Group Mandatory Service Bulletin No. SB-A6H-015, dated November 19, 2025 (MAG SB-A6H-015) referenced in EASA AD 2025-0269 specifies “new”, this AD requires replacing that text with “new (zero hours time-in-service)”.

(5) Where paragraph (8) of EASA AD 2025-0269 specifies contacting MAG [Mecaer Aviation Group] for applicable corrective actions and instructions if a discrepancy is detected during the operational test, and where the material referenced in EASA AD 2025-0269 specifies to contact MAG if a functional test fails, this AD requires, before further flight, performing these actions in accordance with a method approved by the Manager, International Validation Branch, FAA; or EASA; or Airbus Helicopters' EASA Design Organization Approval (DOA). If approved by the DOA, the approval must include the DOA-authorized signature.

(6) Where MAG SB-A6H-015 referenced in EASA AD 2025-0269 specifies “in case of doubt”, this AD requires replacing that text with “inspect for broken locking fingers”.

(7) Where MAG SB-A6H-015 referenced in EASA AD 2025-0269 specifies “confirm that no visible damage is present”, this AD requires replacing that text with “inspect for damage (any crack, deformation, wear, corrosion, looseness, elongation, impact mark, or structural defect)”.

(8) Where MAG SB-A6H-015 referenced in EASA AD 2025-0269 specifies “scrapped”, this AD requires replacing that text with “remove from service”.

(9) This AD does not adopt the “Remarks” section of EASA AD 2025-0269.

(i) No Reporting Requirement

Although the material referenced in EASA AD 2024-0269 specifies to submit certain information to the manufacturer, this AD does not require that action.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Brenda Buitrago Perez, Aviation Safety Engineer, FAA, 1600 Stewart Avenue, Suite 410, Westbury, NY 11590; phone: (516) 228-7368; email: brenda.l.buitrago.perez@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2025-0269, dated December 1, 2025.

(ii) Mecaer Aviation Group (MAG) Mandatory Service Bulletin No. SB-A6H-015, dated November 19, 2025.

(3) For EASA material identified in this AD, contact EASA, Konrad-Adenauer-Ufer 3, 50668 Cologne, Germany; phone: +49 221 8999 000; email: ADs@easa.europa.eu; website: easa.europa.eu. You may find the EASA material on the EASA website at ad.easa.europa.eu. For MAG material identified in this AD, contact MAG, Via dell'Artigianato 1, Monteprandone 63076 Ascoli Piceno, Italy; phone: +39 0735-7091; email: caw@mecaer.com; or at mecaer.com.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on February 24, 2026.
Steven W. Thompson,
Acting Deputy Director, Compliance & Airworthiness Division, Aircraft Certification Service.

[FR Doc. 2026-03874 Filed 2-25-26; 8:45 am]

BILLING CODE 4910-13-P